DEPARTMENT OF AGRICULTURE

Animal and Plant Health Inspection Service

[Docket No. APHIS-2008-0121]

Notice of Determination of the Highly Pathogenic Avian Influenza Subtype H5N1 Status of Saxony, Germany

AGENCY: Animal and Plant Health Inspection Service, USDA.

ACTION: Notice.

SUMMARY: We are advising the public of our determination regarding the highly pathogenic avian influenza (HPAI) subtype H5N1 status of Saxony, Germany, following an outbreak in 2008. Based on our assessment of the animal health status of Saxony, Germany, which we made available to the public for review and comment through a previous notice, the Administrator has determined that the importation of live birds, poultry carcasses, parts or products of poultry carcasses, and eggs (other than hatching eggs) of poultry, game birds, and other birds from Saxony, Germany, presents a low risk of introducing HPAI H5N1 into the United States.

DATES: Effective Date: This determination will be effective on October 8, 2009.

FOR FURTHER INFORMATION CONTACT: Dr. Julia Punderson, Regionalization Evaluation Services Staff, National Center for Import and Export, VS, APHIS, 4700 River Road Unit 38, Riverdale, MD 20737-1231; (301) 734-4356.

SUPPLEMENTARY INFORMATION:

Background

On June 12, 2009, we published in the Federal Register (74 FR 28008-28009, Docket No. APHIS-2008-0121) a notice ¹ in which we announced the availability for review and comment of an assessment of the animal health status of Saxony, Germany, relative to highly pathogenic avian influenza (HPAI) subtype H5N1. In the assessment, titled “APHIS' Evaluation of the Status of High Pathogenicity Avian Influenza H5N1 (HPAI H5N1) in Saxony, Germany” (February 2009), we presented the results of our evaluation of the prevalence of HPAI H5N1 in domestic poultry in light of the actions taken by German animal health authorities during and since the outbreak of HPAI H5N1 that occurred in Saxony in 2008.

¹ To view the notice and the assessment, go to http://www.regulations.gov/fdmspublic/component/main?main=DocketDetail&d=APHIS-2008-0121.

Our assessment concluded that Germany had adequate detection and control measures in place at the time of the outbreak, that they have been able to effectively control and eradicate HPAI H5N1 in their domestic poultry populations at that time, and that German animal health authorities have control measures in place to rapidly identify, control, and eradicate the disease should it be reintroduced into Germany in either wild birds or domestic poultry.

In our June 2009 notice we stated that if, after the close of the comment period, we could identify no additional risk factors that would indicate that domestic poultry in Saxony, Germany, continue to be affected with HPAI H5N1, we would conclude that the importation of live birds, poultry carcasses, parts of carcasses, and eggs (other than hatching eggs) of poultry, game birds, or other birds from Saxony, Germany, presents a low risk of introducing HPAI H5N1 into the United States.

We solicited comments on the notice for 30 days ending on July 13, 2009. We received no comments on our assessment by that date. Therefore we are removing certain restrictions on the importation of these products from Saxony, Germany, into the United States. Specifically:

• We are no longer requiring that processed poultry products from Saxony, Germany, be accompanied by a Veterinary Service import permit and government certification confirming that the products have been treated according to APHIS requirements;

• We are allowing unprocessed poultry products from Saxony, Germany, to enter the United States in passenger luggage; and

• We are removing restrictions regarding Saxony, Germany, from which processed poultry products may originate in order to be allowed entry into the United States in passenger luggage.

However, live birds from Saxony, Germany, are still subject to the inspections at ports of entry and post-importation quarantines set forth in 9 CFR part 93, unless granted an exemption by the Administrator or destined for diagnostic purposes and accompanied by a limited permit.

Done in Washington, DC, this 17th day of September 2009.
Kevin Shea,
Acting Administrator, Animal and Plant Health Inspection Service.

[FR Doc. E9-22931 Filed 9-22-09; 8:45 am]

BILLING CODE 3410-34-P